DEPARTMENT OF HOMELAND SECURITY

6 CFR Part 27

8 CFR Parts 270, 274a, and 280

19 CFR Part 4

Coast Guard

33 CFR Part 27

Transportation Security Administration

49 CFR Part 1503

RIN 1601-AA80

Civil Monetary Penalty Adjustments for Inflation

AGENCY: Department of Homeland Security.

ACTION: Final rule.

SUMMARY: In this final rule, the Department of Homeland Security's (DHS) is making the 2018 annual inflation adjustment to its civil monetary penalties. The Federal Civil Penalties Inflation Adjustment Act Improvements Act of 2015 (2015 Act) was signed into law on November 2, 2015. Pursuant to the 2015 Act, all agencies must adjust civil monetary penalties annually and publish the adjustment in the Federal Register. Accordingly, this final rule adjusts DHS's civil monetary penalties for 2018 pursuant to the 2015 Act and OMB guidance. The new penalties will be effective for penalties assessed after April 2, 2018 whose associated violations occurred after November 2, 2015.

DATES: This rule is effective on April 2, 2018.

FOR FURTHER INFORMATION CONTACT: Megan Westmoreland, Attorney-Advisor, Office of the General Counsel, U.S. Department of Homeland Security. Phone: 202-447-4384.

SUPPLEMENTARY INFORMATION:

Table of Contents

I. Statutory and Regulatory Background

II. Overview of Final Rule

III. Adjustments by Component

A. National Protection and Programs Directorate

B. U.S. Customs and Border Protection

C. U.S. Immigration and Customs Enforcement

D. U.S. Coast Guard

E. Transportation Security Administration

IV. Administrative Procedure Act

V. Regulatory Analyses

A. Executive Orders 12866 and 13563

B. Regulatory Flexibility Act

C. Unfunded Mandates Reform Act

D. Paperwork Reduction Act

I. Statutory and Regulatory Background

On November 2, 2015, the President signed into law the Federal Civil Penalties Inflation Adjustment Act Improvements Act of 2015 (Pub. L. 114-74 section 701 (Nov. 2, 2105)) (2015 Act).¹ The 2015 Act amended the Federal Civil Penalties Inflation Adjustment Act of 1990 (28 U.S.C. 2461 note) to improve the effectiveness of civil monetary penalties and to maintain their deterrent effect. The 2015 Act required agencies to: (1) Adjust the level of civil monetary penalties with an initial “catch-up” adjustment through issuance of an Interim Final Rule (IFR) and (2) make subsequent annual adjustments for inflation. Through the “catch-up” adjustment, agencies were required to adjust the maximum amounts of civil monetary penalties to more accurately reflect inflation rates.

¹ The 2015 Act was enacted as part of the Bipartisan Budget Act of 2015, Public Law 114-74 (Nov. 2, 2015).

For the subsequent annual adjustments, the 2015 Act requires agencies to increase the penalty amounts by a cost-of-living adjustment. The 2015 Act directs OMB to provide guidance to agencies each year to assist agencies in making the annual adjustments. The 2015 Act requires agencies to make the annual adjustments no later than January 15 of each year and to publish the adjustments in the Federal Register.

Pursuant to the 2015 Act, DHS undertook a review of the civil penalties that DHS and its components administer.² On July 1, 2016, DHS published an IFR adjusting the maximum civil monetary penalties with an initial “catch-up” adjustment, as required by the 2015 Act. See 81 FR 42987. DHS calculated the adjusted penalties based upon nondiscretionary provisions in the 2015 Act and upon guidance that OMB issued to agencies on February 24, 2016.³ The adjusted penalties were effective for civil penalties assessed after August 1, 2016 (the effective date of the IFR) whose associated violations occurred after November 2, 2015 (the date of enactment of the 2015 Act). On January 27, 2017, DHS published a final rule finalizing the IFR and making the annual adjustment for 2017. See 82 FR 8572.

² The 2015 Act applies to all agency civil penalties except for any penalty (including any addition to tax and additional amount) under the Internal Revenue Code of 1986 (26 U.S.C. 1 et seq.) and the Tariff Act of 1930 (19 U.S.C. 1202 et seq.). See sec. 4(a)(1) of the 2015 Act. In the case of DHS, several civil penalties that are assessed by U.S. Customs and Border Protection (CBP) and the U.S. Coast Guard fall under the Tariff Act of 1930, and thus DHS did not adjust those civil penalties in this rulemaking.

³ OMB, Implementation of the Federal Civil Penalties Inflation Adjustment Act Improvements Act of 2015, Table A, 24 February 2016. https://www.whitehouse.gov/sites/whitehouse.gov/files/omb/memoranda/2016/m-16-06.pdf (last accessed Dec. 5, 2017).

II. Overview of the Final Rule

This final rule makes the 2018 annual inflation adjustments to civil monetary penalties pursuant to the 2015 Act and pursuant to guidance OMB issued to agencies on December 15, 2017.⁴ The penalty amounts in this final rule will be effective for penalties assessed after April 2, 2018 where the associated violation occurred after November 2, 2015. Consistent with OMB guidance, the 2015 Act does not change previously assessed penalties that the agency is actively collecting or has collected.

⁴ OMB, Implementation of the 2018 annual adjustment pursuant to the Federal Civil Penalties Inflation Adjustment Act Improvements Act of 2015, December 15, 2017. https://www.whitehouse.gov/wp-content/uploads/2017/11/M-18-03.pdf (last accessed Dec. 15, 2017).

The adjusted penalty amounts will apply to penalties assessed after the effective date of this final rule. We discuss civil penalties by DHS component in Section III below. For each component identified in Section III, below, we briefly describe the relevant civil penalty (or penalties), and we provide a table showing the increase in the penalties for 2018. In the table for each component, we show (1) the penalty name, (2) the penalty statutory and/or regulatory citation, (3) the penalty amount as adjusted in the 2017 final rule, (4) the cost-of-living adjustment multiplier for 2018 that OMB provided in its December 15, 2017 guidance, and (5) the new 2018 adjusted penalty. The 2015 Act instructs agencies to round penalties to the nearest $1. For a more complete discussion of the method used for calculating the initial “catch-up” inflation adjustments and a component-by-component breakdown to the nature of the civil penalties and relevant legal authorities, please see the IFR preamble at 81 FR 42987-43000.

III. Adjustments by Component

In the following sections, we briefly describe the civil penalties that DHS and its components assess. We include tables at the end of each section, which list the individual adjustments for each penalty.

A. National Protection and Programs Directorate

The National Protection and Programs Directorate (NPPD) administers only one civil penalty that the 2015 Act affects. That penalty assesses fines for violations of the Chemical Facility Anti-Terrorism Standards (CFATS). CFATS is a program that regulates the security of chemical facilities that, in the discretion of the Secretary, present high levels of security risk. DHS established the CFATS program in 2007 pursuant to section 550 of the Department of Homeland Security Appropriations Act of 2007 (Pub. L. 109-295).⁵ The CFATS regulation is located in part 27 of title 6 of the Code of Federal Regulations (CFR). Below is a table showing the 2018 adjustment for the CFATS penalty that NPPD administers.

⁵ Section 550 has since been superseded by the Protecting and Securing Chemical Facilities from Terrorist Attacks Act of 2014 (Pub. L. 113-254). The new legislation codified the statutory authority for the CFATS program within Title XXI of the Homeland Security Act of 2002, as amended. See 6 U.S.C. 621 et seq.

Table 1—CFATS Civil Penalty Adjustment
Penalty name | Citation | Penalty amount as adjusted in the 2017 FR | Multiplier * | New penalty as adjusted by this final rule
Penalty for non-compliance with CFATS regulations | 6 U.S.C. 624(b)(1); 6 CFR 27.300(b)(3) | $33,333 per day | 1.02041 | $34,013
* OMB, Implementation of the 2018 annual adjustment pursuant to the Federal Civil Penalties Inflation Adjustment Act Improvements Act of 2015, December 15, 2017. https://obamawhitehouse.archives.gov/sites/default/files/omb/memoranda/2017/m-17-11_0.pdf.

B. U.S. Customs and Border Protection

U.S. Customs and Border Protection (CBP) assesses civil monetary penalties under various titles of the United States Code and the CFR. These include penalties for certain violations of title 8 of the CFR regarding the Immigration and Nationality Act of 1952 (Pub. L. 82-414, as amended) (INA). The INA contains provisions that impose penalties on persons, including carriers and aliens, who violate specified provisions of the INA. The relevant penalty provisions are located in numerous sections of the INA, however CBP has enumerated these penalties in regulation in one location—in 8 CFR 280.53. For a complete list of the INA sections for which penalties are assessed, in addition to a brief description of each violation, see the IFR preamble at 81 FR 42989-42990.

On December 8, 2017, CBP adjusted three non-INA penalties inadvertently left out of the IFR and 2017 final rule. See 82 FR 57821. The three penalties concern the following violations: Transporting passengers between coastwise points in the United States by a non-coastwise qualified vessel; towing a vessel between coastwise points in the United States by a non-coastwise qualified vessel; and dealing in or using an empty stamped imported liquor container after it has already been used once. This final rule incorporates those three penalties alongside the other CBP penalties and adjusts them according to the 2018 multiplier.

Below is a table showing the 2018 adjustment for the penalties that CBP administers.

Table 2—U.S. Customs and Border Protection Civil Penalties Adjustments
Penalty name | Citation | Penalty amount as adjusted in the 2017 FR | Multiplier * | New penalty as adjusted by this final rule
Penalties for non-compliance with arrival and departure manifest requirements for passengers, crewmembers, or occupants transported on commercial vessels or aircraft arriving to or departing from the United States | 8 U.S.C. 1221(g) 8 CFR 280.53(b)(1) (INA section 231(g)) | $1,333 | 1.02041 | $1,360.
Penalties for non-compliance with landing requirements at designated ports of entry for aircraft transporting aliens | 8 U.S.C. 1224 8 CFR 280.53(b)(2) (INA section 234) | $3,621 | 1.02041 | $3,695.
Penalties for failure to depart voluntarily | 8 U.S.C. 1229c(d) 8 CFR 280.53(b)(3) (INA section 240B(d)) | $1,527-$7,635 | 1.02041 | $1,558-$7,791.
Penalties for violations of removal orders relating to aliens transported on vessels or aircraft under section 241(d) of the INA, or for costs associated with removal under section 241(e) of the INA | 8 U.S.C. 1253(c)(1)(A) 8 CFR 280.53(b)(4) (INA section 243(c)(1)(A)) | $3,054 | 1.02041 | $3,116.
Penalties for failure to remove alien stowaways under section 241(d)(2) of the INA | 8 U.S.C. 1253(c)(1)(B) 8 CFR 280.53(b)(5) (INA section 243(c)(1)(B)) | $7,635 | 1.02041 | $7,791.
Penalties for failure to report an illegal landing or desertion of alien crewmen, and for each alien not reported on arrival or departure manifest or lists required in accordance with section 251 of the INA | 8 U.S.C. 1281(d) 8 CFR 280.53(b)(6) (INA section 251(d)) | $362 for each alien | 1.02041 | $369 for each alien.
Penalties for use of alien crewmen for longshore work in violation of section 251(d) of the INA | 8 U.S.C. 1281(d) 8 CFR 280.53(b)(6) (INA section 251(d)) | $9,054 | 1.02041 | $9,239.
Penalties for failure to control, detain, or remove alien crewmen | 8 U.S.C. 1284(a) 8 CFR 280.53(b)(7) (INA section 254(a)) | $906-$5,432 | 1.02041 | $924-$5,543.
Penalties for employment on passenger vessels of aliens afflicted with certain disabilities | 8 U.S.C. 1285 8 CFR 280.53(b)(8) (INA section 255) | $1,811 | 1.02041 | $1,848.
Penalties for discharge of alien crewmen | 8 U.S.C. 1286 8 CFR 280.53(b)(9) (INA section 256) | $2,716-$5,432 | 1.02041 | $2,771-$5,543.
Penalties for bringing into the United States alien crewmen with intent to evade immigration laws | 8 U.S.C. 1287 8 CFR 280.53(b)(10) (INA section 257) | $18,107 | 1.02041 | $18,477.
Penalties for failure to prevent the unauthorized landing of aliens | 8 U.S.C. 1321(a) 8 CFR 280.53(b)(11) (INA section 271(a)) | $5,432 | 1.02041 | $5,543.
Penalties for bringing to the United States aliens subject to denial of admission on a health-related ground | 8 U.S.C. 1322(a) 8 CFR 280.53(b)(12) (INA section 272(a)) | $5,432 | 1.02041 | $5,543.
Penalties for bringing to the United States aliens without required documentation | 8 U.S.C. 1323(b) 8 CFR 280.53(b)(13) (INA section 273(b)) | $5,432 | 1.02041 | $5,543.
Penalties for failure to depart | 8 U.S.C. 1324d 8 CFR 280.53(b)(14) (INA section 274D) | $763 | 1.02041 | $779.
Penalties for improper entry | 8 U.S.C. 1325(b) 8 CFR 280.53(b)(15) (INA section 275(b)) | $76-$382 | 1.02041 | $78-$390.
Penalty for dealing in or using empty stamped imported liquor containers | 19 U.S.C. 469 | $508 ** | 1.02041 | $518.
Penalty for transporting passengers between coastwise points in the United States by a non-coastwise qualified vessel | 46 U.S.C. 55103(b) 19 CFR 4.80(b)(2) | $762 ** | 1.02041 | $778.
Penalty for towing a vessel between coastwise points in the United States by a non-coastwise qualified vessel | 46 U.S.C. 55111(c) 19 CFR 4.92 | $889-$2795, plus $152 per ton ** | 1.02041 | $907-$2852, plus $155 per ton.
* OMB, Implementation of the 2018 annual adjustment pursuant to the Federal Civil Penalties Inflation Adjustment Act Improvements Act of 2015, December 15, 2017. https://www.whitehouse.gov/wp-content/uploads/2017/11/M-18-03.pdf.
** Adjustments made in Dec 8, 2017 final rule, 82 FR 57821.

C. U.S. Immigration and Customs Enforcement

U.S. Immigration and Customs Enforcement (ICE) assesses civil monetary penalties for certain employment-related violations arising from the INA. ICE's civil penalties are located in title 8 of the CFR.

There are three different sections in the INA that impose civil monetary penalties for violations of the laws that relate to employment actions: Sections 274A, 274B, and 274C. ICE has primary enforcement responsibilities for two of these civil penalty provisions (sections 274A and 274C), and the Department of Justice (DOJ) has enforcement responsibilities for one of these civil penalty provisions (section 274B). The INA, in sections 274A and 274C, provides for imposition of civil penalties for various specified unlawful acts pertaining to the employment eligibility verification process (Form I-9, Employment Eligibility Verification) and the employment of unauthorized aliens.

Because both DHS and DOJ implement the three employment-related penalty sections in the INA, both Departments' implementing regulations reflect the civil penalty amounts. For a complete description of the civil money penalties assessed and a discussion of DHS's and DOJ's efforts to update the penalties in years past, see the IFR preamble at 81 FR 42991. Below is a table showing the 2018 adjustment for the penalties that ICE administers.⁶

⁶ Table 3 also includes two civil penalties that were previously listed as penalties administered by CBP, but that are now indicated in this final rule as penalties that ICE administers. These are penalties for failure to depart voluntarily, INA section 240B(d), and failure to depart after a final order of removal, INA section 274D. Both CBP and ICE may administer these penalties, but as ICE is the DHS component primarily responsible for assessing and collecting them, they are now also listed among the penalties ICE administers.

Table 3—U.S. Immigration and Customs Enforcement Civil Penalties Adjustments
Penalty name | Citation | Penalty amount as adjusted in the 2017 FR | Multiplier * | New penalty as adjusted by this final rule
Civil penalties for failure to depart voluntarily, Immigration and Naturalization Act section 240B(d) | 8 U.S.C. 1229c(d) 8 CFR 280.53(b)(3) | $1,527-$7,635 | 1.02041 | $1,558-$7,791
Civil penalties for violation of Immigration and Naturalization Act (INA) sections 274C(a)(1)-(a)(4), penalty for first offense | 8 CFR 270.3(b)(1)(ii)(A) | $452-$3,621 | 1.02041 | $461-$3,695
Civil penalties for violation of Immigration and Naturalization Act (INA) sections 274C(a)(5)-(a)(6), penalty for first offense | 8 CFR 270.3(b)(1)(ii)(B) | $382-$3,054 | 1.02041 | $390-$3,116
Civil penalties for violation of Immigration and Naturalization Act (INA) sections 274C(a)(1)-(a)(4), penalty for subsequent offenses | 8 CFR 270.3(b)(1)(ii)(C) | $3,621-$9,054 | 1.02041 | $3,695-$9,239
Civil penalties for violation of Immigration and Naturalization Act (INA) sections 274C(a)(5)-(a)(6), penalty for subsequent offenses | 8 CFR 270.3(b)(1)(ii)(D) | $3,054-$7,635 | 1.02041 | $3,116-$7,791
Violation/prohibition of indemnity bonds | 8 CFR 274a.8(b) | $2,191 | 1.02041 | $2,236
Civil penalties for knowingly hiring, recruiting, referral, or retention of unauthorized aliens—Penalty for first offense (per unauthorized alien) | 8 CFR 274a.10(b)(1)(ii)(A) | $548-$4,384 | 1.02041 | $559-$4,473
Penalty for second offense (per unauthorized alien) | 8 CFR 274a.10(b)(1)(ii)(B) | $4,384-$10,957 | 1.02041 | $4,473-$11,181
Penalty for third or subsequent offense (per unauthorized alien) | 8 CFR 274a.10(b)(1)(ii)(C) | $6,575-$21,916 | 1.02041 | $6,709-$22,363
Civil penalties for I-9 paperwork violations | 8 CFR 274a.10(b)(2) | $220-$2,191 | 1.02041 | $224-$2,236
Civil penalties for failure to depart, Immigration and Naturalization Act (INA) section 274D | 8 U.S.C. 1324d 8 CFR 280.53(b)(14) | $763 | 1.02041 | $779
* OMB, Implementation of the 2018 annual adjustment pursuant to the Federal Civil Penalties Inflation Adjustment Act Improvements Act of 2015, December 15, 2017. https://www.whitehouse.gov/wp-content/uploads/2017/11/M-18-03.pdf.

D. U.S. Coast Guard

The Coast Guard is authorized to assess close to 150 penalties involving maritime safety and security and environmental stewardship that are critical to the continued success of Coast Guard missions. Various statutes in titles 14, 16, 19, 33, 42, 46, and 49 of the United States Code authorize these penalties. Titles 33 and 46 authorize the vast majority of these penalties as these statutes deal with navigation, navigable waters, and shipping. Beyond titles 33 and 46, the Coast Guard is also authorized to collect civil monetary penalties related to the organization and management of the Coast Guard, aquatic species conservation, obstruction of revenue, and hazardous substances and materials. For a complete discussion of the civil monetary penalties assessed by the Coast Guard, see the IFR preamble at 81 FR 42992.

The Coast Guard has identified the penalties it administers, adjusted those penalties for inflation, and is listing those new penalties in a table located in the CFR—specifically, Table 1 in 33 CFR 27.3. Table 1 in 33 CFR 27.3 identifies the statutes that provide the Coast Guard with civil monetary penalty authority and sets out the inflation-adjusted maximum penalty that the Coast Guard may impose pursuant to each statutory provision. Table 1 in 33 CFR 27.3 provides the current maximum penalty for violations that occurred after November 2, 2015. The applicable civil penalty amounts for violations occurring on or before November 2, 2015 are set forth in previously published regulations amending 33 CFR part 27. To find the applicable penalty amount for a violation that occurred on or before November 2, 2015, look to the prior versions of the CFR that pertain to the date on which the violation occurred. Table 4 below shows the 2018 adjustment for the penalties that the Coast Guard administers.

Table 4—U.S. Coast Guard Civil Penalties Adjustments
Penalty name | Citation | Penalty amount as adjusted in the 2017 FR | Multiplier * | New penalty as adjusted by this final rule
Saving Life and Property | 14 U.S.C. 88(c) | $10,181 | 1.02041 | $10,389
Saving Life and Property; Intentional Interference with Broadcast | 14 U.S.C. 88(e) | 1,045 | 1.02041 | 1,066
Confidentiality of Medical Quality Assurance Records (first offense) | 14 U.S.C. 645(i); 33 CFR 27.3 | 5,114 | 1.02041 | 5,218
Confidentiality of Medical Quality Assurance Records (subsequent offenses) | 14 U.S.C. 645(i); 33 CFR 27.3 | 34,095 | 1.02041 | 34,791
Aquatic Nuisance Species in Waters of the United States | 16 U.S.C. 4711(g)(1); 33 CFR 27.3 | 38,175 | 1.02041 | 38,954
Obstruction of Revenue Officers by Masters of Vessels | 19 U.S.C. 70; 33 CFR 27.3 | 7,623 | 1.02041 | 7,779
Obstruction of Revenue Officers by Masters of Vessels—Minimum Penalty | 19 U.S.C. 70; 33 CFR 27.3 | 1,779 | 1.02041 | 1,815
Failure to Stop Vessel When Directed; Master, Owner, Operator or Person in Charge | 19 U.S.C. 1581(d) | ** 5,000 | N/A | ** 5,000
Failure to Stop Vessel When Directed; Master, Owner, Operator or Person in Charge—Minimum Penalty | 19 U.S.C. 1581(d) | ** 1,000 | N/A | ** 1,000
Anchorage Ground/Harbor Regulations General | 33 U.S.C. 471; 33 CFR 27.3 | 11,053 | 1.02041 | 11,279
Anchorage Ground/Harbor Regulations St. Mary's river | 33 U.S.C. 474; 33 CFR 27.3 | 762 | 1.02041 | 778
Bridges/Failure to Comply with Regulations | 33 U.S.C. 495(b); 33 CFR 27.3 | 27,904 | 1.02041 | 28,474
Bridges/Drawbridges | 33 U.S.C. 499(c); 33 CFR 27.3 | 27,904 | 1.02041 | 28,474
Bridges/Failure to Alter Bridge Obstructing Navigation | 33 U.S.C. 502(c); 33 CFR 27.3 | 27,904 | 1.02041 | 28,474
Bridges/Maintenance and Operation | 33 U.S.C. 533(b); 33 CFR 27.3 | 27,904 | 1.02041 | 28,474
Bridge to Bridge Communication; Master, Person in Charge or Pilot | 33 U.S.C. 1208(a); 33 CFR 27.3 | 2,033 | 1.02041 | 2,074
Bridge to Bridge Communication; Vessel | 33 U.S.C. 1208(b); 33 CFR 27.3 | 2,033 | 1.02041 | 2,074
PWSA Regulations | 33 U.S.C. 1232(a); 33 CFR 27.3 | 90,063 | 1.02041 | 91,901
Vessel Navigation: Regattas or Marine Parades; Unlicensed Person in Charge | 33 U.S.C. 1236(b); 33 CFR 27.3 | 9,054 | 1.02041 | 9,239
Vessel Navigation: Regattas or Marine Parades; Owner Onboard Vessel | 33 U.S.C. 1236(c); 33 CFR 27.3 | 9,054 | 1.02041 | 9,239
Vessel Navigation: Regattas or Marine Parades; Other Persons | 33 U.S.C. 1236(d); 33 CFR 27.3 | 4,527 | 1.02041 | 4,619
Oil/Hazardous Substances: Discharges (Class I per violation) | 33 U.S.C. 1321(b)(6)(B)(i); 33 CFR 27.3 | 18,107 | 1.02041 | 18,477
Oil/Hazardous Substances: Discharges (Class I total under paragraph) | 33 U.S.C. 1321(b)(6)(B)(i); 33 CFR 27.3 | 45,268 | 1.02041 | 46,192
Oil/Hazardous Substances: Discharges (Class II per day of violation) | 33 U.S.C. 1321(b)(6)(B)(ii); 33 CFR 27.3 | 18,107 | 1.02041 | 18,477
Oil/Hazardous Substances: Discharges (Class II total under paragraph) | 33 U.S.C. 1321(b)(6)(B)(ii); 33 CFR 27.3 | 226,338 | 1.02041 | 230,958
Oil/Hazardous Substances: Discharges (per day of violation) Judicial Assessment | 33 U.S.C. 1321(b)(7)(A); 33 CFR 27.3 | 45,268 | 1.02041 | 46,192
Oil/Hazardous Substances: Discharges (per barrel of oil or unit discharged) Judicial Assessment | 33 U.S.C. 1321(b)(7)(A); 33 CFR 27.3 | 1,811 | 1.02041 | 1,848
Oil/Hazardous Substances: Failure to Carry Out Removal/Comply With Order (Judicial Assessment) | 33 U.S.C. 1321(b)(7)(B); 33 CFR 27.3 | 45,268 | 1.02041 | 46,192
Oil/Hazardous Substances: Failure to Comply with Regulation Issued Under 1321(j) (Judicial Assessment) | 33 U.S.C. 1321(b)(7)(C); 33 CFR 27.3 | 45,268 | 1.02041 | 46,192
Oil/Hazardous Substances: Discharges, Gross Negligence (per barrel of oil or unit discharged) Judicial Assessment | 33 U.S.C. 1321(b)(7)(D); 33 CFR 27.3 | 5,432 | 1.02041 | 5,543
Oil/Hazardous Substances: Discharges, Gross Negligence—Minimum Penalty (Judicial Assessment) | 33 U.S.C. 1321(b)(7)(D); 33 CFR 27.3 | 181,071 | 1.02041 | 184,767
Marine Sanitation Devices; Operating | 33 U.S.C. 1322(j); 33 CFR 27.3 | 7,623 | 1.02041 | 7,779
Marine Sanitation Devices; Sale or Manufacture | 33 U.S.C. 1322(j); 33 CFR 27.3 | 20,327 | 1.02041 | 20,742
International Navigation Rules; Operator | 33 U.S.C. 1608(a); 33 CFR 27.3 | 14,252 | 1.02041 | 14,543
International Navigation Rules; Vessel | 33 U.S.C. 1608(b); 33 CFR 27.3 | 14,252 | 1.02041 | 14,543
Pollution from Ships; General | 33 U.S.C. 1908(b)(1); 33 CFR 27.3 | 71,264 | 1.02041 | 72,718
Pollution from Ships; False Statement | 33 U.S.C. 1908(b)(1); 33 CFR 27.3 | 14,252 | 1.02041 | 14,543
Inland Navigation Rules; Operator | 33 U.S.C. 2072(a); 33 CFR 27.3 | 14,252 | 1.02041 | 14,543
Inland Navigation Rules; Vessel | 33 U.S.C. 2072(b); 33 CFR 27.3 | 14,252 | 1.02041 | 14,543
Shore Protection; General | 33 U.S.C. 2609(a); 33 CFR 27.3 | 50,276 | 1.02041 | 51,302
Shore Protection; Operating Without Permit | 33 U.S.C. 2609(b); 33 CFR 27.3 | 20,111 | 1.02041 | 20,521
Oil Pollution Liability and Compensation | 33 U.S.C. 2716a(a); 33 CFR 27.3 | 45,268 | 1.02041 | 46,192
Clean Hulls | 33 U.S.C. 3852(a)(1)(A); 33 CFR 27.3 | 41,446 | 1.02041 | 42,292
Clean Hulls-related to false statements | 33 U.S.C. 3852(a)(1)(A); 33 CFR 27.3 | 55,263 | 1.02041 | 56,391
Clean Hulls-Recreational Vessel | 33 U.S.C. 3852(c); 33 CFR 27.3 | 5,526 | 1.02041 | 5,639
Hazardous Substances, Releases, Liability, Compensation (Class I) | 42 U.S.C. 9609(a); 33 CFR 27.3 | 54,789 | 1.02041 | 55,907
Hazardous Substances, Releases, Liability, Compensation (Class II) | 42 U.S.C. 9609(b); 33 CFR 27.3 | 54,789 | 1.02041 | 55,907
Hazardous Substances, Releases, Liability, Compensation (Class II subsequent offense) | 42 U.S.C. 9609(b); 33 CFR 27.3 | 164,367 | 1.02041 | 167,722
Hazardous Substances, Releases, Liability, Compensation (Judicial Assessment) | 42 U.S.C. 9609(c); 33 CFR 27.3 | 54,789 | 1.02041 | 55,907
Hazardous Substances, Releases, Liability, Compensation (Judicial Assessment subsequent offense) | 42 U.S.C. 9609(c); 33 CFR 27.3 | 164,367 | 1.02041 | 167,722
Safe Containers for International Cargo | 46 U.S.C. App 1505(a)(2) (codified as 46 U.S.C. 80509); 33 CFR 27.3 | 5,989 | 1.02041 | 6,111
Suspension of Passenger Service | 46 U.S.C. App 1805(c)(2) (codified 46 U.S.C. 70305); 33 CFR 27.3 | 59,893 | 1.02041 | 61,115
Vessel Inspection or Examination Fees | 46 U.S.C. 2110(e); 33 CFR 27.3 | 9,054 | 1.02041 | 9,239
Alcohol and Dangerous Drug Testing | 46 U.S.C. 2115; 33 CFR 27.3 | 7,370 | 1.02041 | 7,520
Negligent Operations: Recreational Vessels | 46 U.S.C. 2302(a); 33 CFR 27.3 | 6,666 | 1.02041 | 6,802
Negligent Operations: Other Vessels | 46 U.S.C. 2302(a); 33 CFR 27.3 | 33,333 | 1.02041 | 34,013
Operating a Vessel While Under the Influence of Alcohol or a Dangerous Drug | 46 U.S.C. 2302(c)(1); 33 CFR 27.3 | 7,370 | 1.02041 | 7,520
Vessel Reporting Requirements: Owner, Charterer, Managing Operator, or Agent | 46 U.S.C. 2306(a)(4); 33 CFR 27.3 | 11,478 | 1.02041 | 11,712
Vessel Reporting Requirements: Master | 46 U.S.C. 2306(b)(2); 33 CFR 27.3 | 2,296 | 1.02041 | 2,343
Immersion Suits | 46 U.S.C. 3102(c)(1); 33 CFR 27.3 | 11,478 | 1.02041 | 11,712
Inspection Permit | 46 U.S.C. 3302(i)(5); 33 CFR 27.3 | 2,394 | 1.02041 | 2,443
Vessel Inspection; General | 46 U.S.C. 3318(a); 33 CFR 27.3 | 11,478 | 1.02041 | 11,712
Vessel Inspection; Nautical School Vessel | 46 U.S.C. 3318(g); 33 CFR 27.3 | 11,478 | 1.02041 | 11,712
Vessel Inspection; Failure to Give Notice IAW 3304(b) | 46 U.S.C. 3318(h); 33 CFR 27.3 | 2,296 | 1.02041 | 2,343
Vessel Inspection; Failure to Give Notice IAW 3309(c) | 46 U.S.C. 3318(i); 33 CFR 27.3 | 2,296 | 1.02041 | 2,343
Vessel Inspection; Vessel ≥1600 Gross Tons | 46 U.S.C. 3318(j)(1); 33 CFR 27.3 | 22,957 | 1.02041 | 23,426
Vessel Inspection; Vessel <1600 Gross Tons | 46 U.S.C. 3318(j)(1); 33 CFR 27.3 | 4,591 | 1.02041 | 4,685
Vessel Inspection; Failure to Comply with 3311(b) | 46 U.S.C. 3318(k); 33 CFR 27.3 | 22,957 | 1.02041 | 23,426
Vessel Inspection; Violation of 3318(b)-3318(f) | 46 U.S.C. 3318(l); 33 CFR 27.3 | 11,478 | 1.02041 | 11,712
List/count of Passengers | 46 U.S.C. 3502(e); 33 CFR 27.3 | 239 | 1.02041 | 244
Notification to Passengers | 46 U.S.C. 3504(c); 33 CFR 27.3 | 23,933 | 1.02041 | 24,421
Notification to Passengers; Sale of Tickets | 46 U.S.C. 3504(c); 33 CFR 27.3 | 1,196 | 1.02041 | 1,220
Copies of Laws on Passenger Vessels; Master | 46 U.S.C. 3506; 33 CFR 27.3 | 479 | 1.02041 | 489
Liquid Bulk/Dangerous Cargo | 46 U.S.C. 3718(a)(1); 33 CFR 27.3 | 59,834 | 1.02041 | 61,055
Uninspected Vessels | 46 U.S.C. 4106; 33 CFR 27.3 | 10,055 | 1.02041 | 10,260
Recreational Vessels (maximum for related series of violations) | 46 U.S.C. 4311(b)(1); 33 CFR 27.3 | 316,566 | 1.02041 | 323,027
Recreational Vessels; Violation of 4307(a) | 46 U.S.C. 4311(b)(1); 33 CFR 27.3 | 6,331 | 1.02041 | 6,460
Recreational vessels | 46 U.S.C. 4311(c); 33 CFR 27.3 | 2,394 | 1.02041 | 2,443
Uninspected Commercial Fishing Industry Vessels | 46 U.S.C. 4507; 33 CFR 27.3 | 10,055 | 1.02041 | 10,260
Abandonment of Barges | 46 U.S.C. 4703; 33 CFR 27.3 | 1,704 | 1.02041 | 1,739
Load Lines | 46 U.S.C. 5116(a); 33 CFR 27.3 | 10,957 | 1.02041 | 11,181
Load Lines; Violation of 5112(a) | 46 U.S.C. 5116(b); 33 CFR 27.3 | 21,916 | 1.02041 | 22,363
Load Lines; Violation of 5112(b) | 46 U.S.C. 5116(c); 33 CFR 27.3 | 10,957 | 1.02041 | 11,181
Reporting Marine Casualties | 46 U.S.C. 6103(a); 33 CFR 27.3 | 38,175 | 1.02041 | 38,954
Reporting Marine Casualties; Violation of 6104 | 46 U.S.C. 6103(b); 33 CFR 27.3 | 10,055 | 1.02041 | 10,260
Manning of Inspected Vessels; Failure to Report Deficiency in Vessel Complement | 46 U.S.C. 8101(e); 33 CFR 27.3 | 1,811 | 1.02041 | 1,848
Manning of Inspected Vessels | 46 U.S.C. 8101(f); 33 CFR 27.3 | 18,107 | 1.02041 | 18,477
Manning of Inspected Vessels; Employing or Serving in Capacity not Licensed by USCG | 46 U.S.C. 8101(g); 33 CFR 27.3 | 18,107 | 1.02041 | 18,477
Manning of Inspected Vessels; Freight Vessel <100 GT, Small Passenger Vessel, or Sailing School Vessel | 46 U.S.C. 8101(h); 33 CFR 27.3 | 2,394 | 1.02041 | 2,443
Watchmen on Passenger Vessels | 46 U.S.C. 8102(a) | 2,394 | 1.02041 | 2,443
Citizenship Requirements | 46 U.S.C. 8103(f) | 1,196 | 1.02041 | 1,220
Watches on Vessels; Violation of 8104(a) or (b) | 46 U.S.C. 8104(i) | 18,107 | 1.02041 | 18,477
Watches on Vessels; Violation of 8104(c), (d), (e), or (h) | 46 U.S.C. 8104(j) | 18,107 | 1.02041 | 18,477
Staff Department on Vessels | 46 U.S.C. 8302(e) | 239 | 1.02041 | 244
Officer's Competency Certificates | 46 U.S.C. 8304(d) | 239 | 1.02041 | 244
Coastwise Pilotage; Owner, Charterer, Managing Operator, Agent, Master or Individual in Charge | 46 U.S.C. 8502(e) | 18,107 | 1.02041 | 18,477
Coastwise Pilotage; Individual | 46 U.S.C. 8502(f) | 18,107 | 1.02041 | 18,477
Federal Pilots | 46 U.S.C. 8503 | 57,391 | 1.02041 | 58,562
Merchant Mariners Documents | 46 U.S.C. 8701(d) | 1,196 | 1.02041 | 1,220
Crew Requirements | 46 U.S.C. 8702(e) | 18,107 | 1.02041 | 18,477
Small Vessel Manning | 46 U.S.C. 8906 | 38,175 | 1.02041 | 38,954
Pilotage: Great Lakes; Owner, Charterer, Managing Operator, Agent, Master or Individual in Charge | 46 U.S.C. 9308(a) | 18,107 | 1.02041 | 18,477
Pilotage: Great Lakes; Individual | 46 U.S.C. 9308(b) | 18,107 | 1.02041 | 18,477
Pilotage: Great Lakes; Violation of 9303 | 46 U.S.C. 9308(c) | 18,107 | 1.02041 | 18,477
Failure to Report Sexual Offense | 46 U.S.C. 10104(b) | 9,623 | 1.02041 | 9,819
Pay Advances to Seamen | 46 U.S.C. 10314(a)(2) | 1,196 | 1.02041 | 1,220
Pay Advances to Seamen; Remuneration for Employment | 46 U.S.C. 10314(b) | 1,196 | 1.02041 | 1,220
Allotment to Seamen | 46 U.S.C. 10315(c) | 1,196 | 1.02041 | 1,220
Seamen Protection; General | 46 U.S.C. 10321 | 8,296 | 1.02041 | 8,465
Coastwise Voyages: Advances | 46 U.S.C. 10505(a)(2) | 8,296 | 1.02041 | 8,465
Coastwise Voyages: Advances; Remuneration for Employment | 46 U.S.C. 10505(b) | 8,296 | 1.02041 | 8,465
Coastwise Voyages: Seamen Protection; General | 46 U.S.C. 10508(b) | 8,296 | 1.02041 | 8,465
Effects of Deceased Seamen | 46 U.S.C. 10711 | 479 | 1.02041 | 489
Complaints of Unfitness | 46 U.S.C. 10902(a)(2) | 1,196 | 1.02041 | 1,220
Proceedings on Examination of Vessel | 46 U.S.C. 10903(d) | 239 | 1.02041 | 244
Permission to Make Complaint | 46 U.S.C. 10907(b) | 1,196 | 1.02041 | 1,220
Accommodations for Seamen | 46 U.S.C. 11101(f) | 1,196 | 1.02041 | 1,220
Medicine Chests on Vessels | 46 U.S.C. 11102(b) | 1,196 | 1.02041 | 1,220
Destitute Seamen | 46 U.S.C. 11104(b) | 239 | 1.02041 | 244
Wages on Discharge | 46 U.S.C. 11105(c) | 1,196 | 1.02041 | 1,220
Log Books; Master Failing to Maintain | 46 U.S.C. 11303(a) | 479 | 1.02041 | 489
Log Books; Master Failing to Make Entry | 46 U.S.C. 11303(b) | 479 | 1.02041 | 489
Log Books; Late Entry | 46 U.S.C. 11303(c) | 359 | 1.02041 | 366
Carrying of Sheath Knives | 46 U.S.C. 11506 | 120 | 1.02041 | 122
Vessel Documentation | 46 U.S.C. 12151(a)(1) | 15,675 | 1.02041 | 15,995
Documentation of Vessels—Related to Activities involving mobile offshore drilling units | 46 U.S.C. 12151(a)(2) | 26,126 | 1.02041 | 26,659
Vessel Documentation; Fishery Endorsement | 46 U.S.C. 12151(c) | 119,786 | 1.02041 | 122,231
Numbering of Undocumented Vessels—Willful violation | 46 U.S.C. 12309(a) | 11,967 | 1.02041 | 12,211
Numbering of Undocumented Vessels | 46 U.S.C. 12309(b) | 2,394 | 1.02041 | 2,443
Vessel Identification System | 46 U.S.C. 12507(b) | 20,111 | 1.02041 | 20,521
Measurement of Vessels | 46 U.S.C. 14701 | 43,832 | 1.02041 | 44,727
Measurement; False Statements | 46 U.S.C. 14702 | 43,832 | 1.02041 | 44,727
Commercial Instruments and Maritime Liens | 46 U.S.C. 31309 | 20,111 | 1.02041 | 20,521
Commercial Instruments and Maritime Liens; Mortgagor | 46 U.S.C. 31330(a)(2) | 20,111 | 1.02041 | 20,521
Commercial Instruments and Maritime Liens; Violation of 31329 | 46 U.S.C. 31330(b)(2) | 50,276 | 1.02041 | 51,302
Port Security | 46 U.S.C. 70119(a) | 33,333 | 1.02041 | 34,013
Port Security—Continuing Violations | 46 U.S.C. 70119(b) | 59,893 | 1.02041 | 61,115
Maritime Drug Law Enforcement | 46 U.S.C. 70506(c) | 5,526 | 1.02041 | 5,639
Hazardous Materials: Related to Vessels | 49 U.S.C. 5123(a)(1) | 78,376 | 1.02041 | 79,976
Hazardous Materials: Related to Vessels—Penalty from Fatalities, Serious Injuries/Illness or substantial Damage to Property | 49 U.S.C. 5123(a)(2) | 182,877 | 1.02041 | 186,610
Hazardous Materials: Related to Vessels; Training | 49 U.S.C. 5123(a)(3) | 471 | 1.02041 | 481
* OMB, Implementation of the 2017 annual adjustment pursuant to the Federal Civil Penalties Inflation Adjustment Act Improvements Act of 2015, December 15, 2017. https://www.whitehouse.gov/wp-content/uploads/2017/11/M-18-03.pdf.
** Enacted under the Tariff Act; exempt from inflation adjustments.

E. Transportation Security Administration

The Transportation Security Administration (TSA) is updating its civil penalties regulation in accordance with the 2015 Act. Pursuant to its statutory authority in 49 U.S.C. 46301(a)(1) and (4) and 49 U.S.C. 114(v),⁷ TSA may impose penalties for violations of any statute that TSA administers, whether an implementing regulation or order imposes the penalty. TSA assesses these penalties for a wide variety of aviation and surface security requirements, including violations of TSA's requirements applicable to Transportation Worker Identification Credentials (TWIC),⁸ as well as violations of requirements described in chapter 449 of title 49 of the United States Code. These penalties can apply to a wide variety of situations, as described in the statutory and regulatory provisions, as well as in guidance that TSA publishes. Below is a table showing the 2018 adjustment for the penalties that TSA administers.

⁷ As amended by sec. 1302 of the Implementing Recommendations of the 9/11 Commission Act of 2007 (Pub. L. 110-53, 121 Stat. 266 (Aug. 3, 2007)).

⁸ See, e.g., 46 U.S.C. 70105, 49 U.S.C. 46302 and 46303, and U.S.C. chapter 449.

Table 5—Transportation Security Administration Civil Penalties Adjustments
Penalty name | Citation | Penalty amount as adjusted in the 2017 FR | Multiplier * | New penalty as adjusted by this final rule
Violation of 49 U.S.C. ch. 449 (except secs. 44902, 44903(d), 44907(a)-(d)(1)(A), 44907(d)(1)(C)-(f), 44908, and 44909), or 49 U.S.C. 46302 or 46303, a regulation prescribed, or order issued thereunder by a person operating an aircraft for the transportation of passengers or property for compensation | 49 U.S.C. 46301(a)(1), (4); 49 CFR 1503.401(c)(2) | $32,666 (up to a total of $522,657 per civil penalty action) | 1.02041 | $33,333 (up to a total of $533,324 per civil penalty action).
Violation of 49 U.S.C. ch. 449 (except secs. 44902, 44903(d), 44907(a)-(d)(1)(A), 44907(d)(1)(C)-(f), 44908, and 44909), or 49 U.S.C. 46302 or 46303, a regulation prescribed, or order issued thereunder by an individual (except an airman serving as an airman), any person not operating an aircraft for the transportation of passengers or property for compensation, or a small business concern | 49 U.S.C. 46301(a)(1), (4); 49 CFR 1503.401(c)(1) | $13,066 (up to a total of $65,333 total for small businesses, $522,657 for others) | 1.02041 | $13,333(up to a total of $66,666 total for small business, $533,324 for others).
Violation of any other provision of title 49 U.S.C. or of 46 U.S.C. ch. 701, a regulation prescribed, or order issued thereunder | 49 U.S.C. 114(v); 49 CFR 1503.401(b) | $11,182 (up to a total of $55,910 total for small businesses, $447,280 for others) | 1.02041 | $11,410 (up to a total of $57,051 total for small businesses, $456,409 for others).
* OMB, Implementation of the 2018 annual adjustment pursuant to the Federal Civil Penalties Inflation Adjustment Act Improvements Act of 2015, December 15, 2017. https://www.whitehouse.gov/wp-content/uploads/2017/11/M-18-03.pdf.

V. Administrative Procedure Act

DHS is promulgating this final rule to ensure that the amount of civil penalties that DHS assesses or enforces reflects the statutorily mandated ranges as adjusted for inflation. The 2015 Act provides a clear formula for adjustment of the civil penalties, leaving DHS and its components with little room for discretion. DHS and its components have been charged only with performing ministerial computations to determine the amounts of adjustments for inflation to civil monetary penalties. In these annual adjustments DHS is merely updating the penalty amounts by applying the cost-of-living adjustment multiplier that OMB has provided to agencies. Furthermore, the 2015 Act specifically instructed that agencies make the required annual adjustments notwithstanding section 553 of title 5 of the United States Code. Thus, as specified in the 2015 Act, the prior public notice-and-comment procedures and delayed effective date requirements of the Administrative Procedure Act (APA) do not apply to this rule.

VI. Regulatory Analyses

A. Executive Orders 12866 and 13563

Executive Orders 12866 and 13563 direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. OMB has not designated this final rule a “significant regulatory action” under section 3(f) of Executive Order 12866. Accordingly, OMB has not reviewed this rule.

This final rule makes nondiscretionary adjustments to existing civil monetary penalties in accordance with the 2015 Act and OMB guidance.⁹ DHS therefore did not consider alternatives and does not have the flexibility to alter the adjustments of the civil monetary penalty amounts as provided in this rule. To the extent this final rule increases civil monetary penalties, it would result in an increase in transfers from persons or entities assessed a civil monetary penalty to the government.

⁹ OMB, Implementation of the 2018 annual adjustment pursuant to the Federal Civil Penalties Inflation Adjustment Act Improvements Act of 2015, December 15, 2017. https://www.whitehouse.gov/wp-content/uploads/2017/11/M-18-03.pdf.

B. Regulatory Flexibility Act

The Regulatory Flexibility Act applies only to rules for which an agency publishes a notice of proposed rulemaking pursuant to 5 U.S.C. 553(b). See 5 U.S.C. 601-612. The Regulatory Flexibility Act does not apply to this final rule, because a notice of proposed rulemaking was not required for the reasons stated above.

C. Unfunded Mandates Reform Act

The Unfunded Mandates Reform Act of 1995, 2 U.S.C. 1531-1538, requires Federal agencies to assess the effects of their discretionary regulatory actions. In particular, the Act addresses actions that may result in the expenditure by a State, local, or Tribal government, in the aggregate, or by the private sector of $100,000,000 (adjusted for inflation) or more in any one year. This final rule will not result in such an expenditure.

D. Paperwork Reduction Act

The provisions of the Paperwork Reduction Act of 1995, 44 U.S.C. chapter 35, and its implementing regulations, 5 CFR part 1320, do not apply to this final rule, because this final rule does not trigger any new or revised recordkeeping or reporting.

List of Subjects

6 CFR Part 27

Reporting and recordkeeping requirements, Security measures.

8 CFR Part 270

Administrative practice and procedure, Aliens, Employment, Fraud, Penalties.

8 CFR Part 274a

Administrative practice and procedure, Aliens, Employment, Penalties, Reporting and recordkeeping requirements.

8 CFR Part 280

Administrative practice and procedure, Immigration, Penalties.

19 CFR Part 4

Customs duties and inspection, Exports, Freight, Harbors, Maritime carriers, Oil pollution, Reporting and recordkeeping requirements, Vessels.

33 CFR Part 27

Administrative practice and procedure, Penalties.

49 CFR Part 1503

Administrative practice and procedure, Investigations, Law enforcement, Penalties.

Amendments to the Regulations

Accordingly, for the reasons stated in the preamble, DHS is amending 6 CFR part 27, 8 CFR parts 270, 274a, and 280, 19 CFR part 4, 33 CFR part 27, and 49 CFR part 1503 as follows:

Title 6—Domestic Security

PART 27—CHEMICAL FACILITY ANTI-TERRORISM STANDARDS

1. The authority citation for part 27 continues to read as follows:

Authority: 6 U.S.C. 624; Pub. L. 101-410, 104 Stat. 890, as amended by Pub. L. 114-74, 129 Stat. 599.

2. In § 27.300, revise paragraph (b)(3) to read as follows:

§ 27.300 Orders.

* * * * *

(b) * * *

(3) Where the Assistant Secretary determines that a facility is in violation of an Order issued pursuant to paragraph (a) of this section and issues an Order Assessing Civil Penalty pursuant to paragraph (b)(1) of this section, a chemical facility is liable to the United States for a civil penalty of not more than $25,000 for each day during which the violation continues, if the violation of the Order occurred on or before November 2, 2015, or $34,013 for each day during which the violation of the Order continues, if the violation occurred after November 2, 2015.

* * * * *

Title 8—Aliens and Nationality

PART 270—PENALTIES FOR DOCUMENT FRAUD

3. The authority citation for part 270 continues to read as follows:

Authority: 8 U.S.C. 1101, 1103, and 1324c; Pub. L. 101-410, 104 Stat. 890, as amended by Pub. L. 104-134, 110 Stat. 1321 and Pub. L. 114-74, 129 Stat. 599.

4. In § 270.3, revise paragraphs (b)(1)(ii)(A) through (D) to read as follows:

§ 270.3 Penalties.

* * * * *

(b) * * *

(1) * * *

(ii) * * *

(A) First offense under section 274C(a)(1) through (a)(4). Not less than $275 and not exceeding $2,200 for each fraudulent document or each proscribed activity described in section 274C(a)(1) through (a)(4) of the Act before March 27, 2008; not less than $375 and not exceeding $3,200 for each fraudulent document or each proscribed activity described in section 274C(a)(1) through (a)(4) of the Act on or after March 27, 2008 and on or before November 2, 2015; and not less than $461 and not exceeding $3,695 for each fraudulent document or each proscribed activity described in section 274C(a)(1) through (a)(4) of the Act after November 2, 2015.

(B) First offense under section 274C(a)(5) or (a)(6). Not less than $250 and not exceeding $2,000 for each fraudulent document or each proscribed activity described in section 274C(a)(5) or (a)(6) of the Act before March 27, 2008; not less than $275 and not exceeding $2,200 for each fraudulent document or each proscribed activity described in section 274C(a)(5) or (a)(6) of the Act on or after March 27, 2008 and on or before November 2, 2015; and not less than $390 and not exceeding $3,116 for each fraudulent document or each proscribed activity described in section 274C(a)(5) or (a)(6) of the Act after November 2, 2015.

(C) Subsequent offenses under section 274C(a)(1) through (a)(4). Not less than $2,200 and not more than $5,500 for each fraudulent document or each proscribed activity described in section 274C(a)(1) through (a)(4) of the Act before March 27, 2008; not less than $3,200 and not exceeding $6,500 for each fraudulent document or each proscribed activity described in section 274C(a)(1) through (a)(4) of the Act occurring on or after March 27, 2008 and on or before November 2, 2015; and not less than $3,695 and not more than $9,239 for each fraudulent document or each proscribed activity described in section 274C(a)(1) through (a)(4) of the Act after November 2, 2015.

(D) Subsequent offenses under section 274C(a)(5) or (a)(6). Not less than $2,000 and not more than $5,000 for each fraudulent document or each proscribed activity described in section 274C(a)(5) or (a)(6) of the Act before March 27, 2008; not less than $2,200 and not exceeding $5,500 for each fraudulent document or each proscribed activity described in section 274C(a)(5) or (a)(6) of the Act occurring on or after March 27, 2008 and on or before November 2, 2015; and not less than $3,116 and not more than $7,791 for each fraudulent document or each proscribed activity described in section 274C(a)(5) or (a)(6) of the Act after November 2, 2015.

* * * * *

PART 274a—CONTROL OF EMPLOYMENT OF ALIENS

5. The authority citation for part 274a continues to read as follows:

Authority: 8 U.S.C. 1101, 1103, 1324a; 48 U.S.C. 1806; 8 CFR part 2; Pub. L. 101-410, 104 Stat. 890, as amended by Pub. L. 114-74, 129 Stat. 599.

6. In § 274a.8, revise paragraph (b) to read as follows:

§ 274a.8 Prohibition of indemnity bonds.

* * * * *

(b) Penalty. Any person or other entity who requires any individual to post a bond or security as stated in this section shall, after notice and opportunity for an administrative hearing in accordance with section 274A(e)(3)(B) of the Act, be subject to a civil monetary penalty of $1,000 for each violation before September 29, 1999, of $1,100 for each violation occurring on or after September 29, 1999 but on or before November 2, 2015, and of $2,236 for each violation occurring after November 2, 2015, and to an administrative order requiring the return to the individual of any amounts received in violation of this section or, if the individual cannot be located, to the general fund of the Treasury.

7. In § 274a.10, revise paragraphs (b)(1)(ii)(A) through (C) and (b)(2) introductory text to read as follows:

§ 274a.10 Penalties.

* * * * *

(b) * * *

(1) * * *

(ii) * * *

(A) First offense—not less than $275 and not more than $2,200 for each unauthorized alien with respect to whom the offense occurred before March 27, 2008; not less than $375 and not exceeding $3,200, for each unauthorized alien with respect to whom the offense occurred occurring on or after March 27, 2008 and on or before November 2, 2015; and not less than $559 and not more than $4,473 for each unauthorized alien with respect to whom the offense occurred occurring after November 2, 2015.

(B) Second offense—not less than $2,200 and not more than $5,500 for each unauthorized alien with respect to whom the second offense occurred before March 27, 2008; not less than $3,200 and not more than $6,500, for each unauthorized alien with respect to whom the second offense occurred on or after March 27, 2008 and on or before November 2, 2015; and not less than $4,473 and not more than $11,181 for each unauthorized alien with respect to whom the second offense occurred after November 2, 2015; or

(C) More than two offenses—not less than $3,300 and not more than $11,000 for each unauthorized alien with respect to whom the third or subsequent offense occurred before March 27, 2008; not less than $4,300 and not exceeding $16,000, for each unauthorized alien with respect to whom the third or subsequent offense occurred on or after March 27, 2008 and on or before November 2, 2015; and not less than $6,709 and not more than $22,363 for each unauthorized alien with respect to whom the third or subsequent offense occurred after November 2, 2015; and

* * * * *

(2) A respondent determined by the Service (if a respondent fails to request a hearing) or by an administrative law judge, to have failed to comply with the employment verification requirements as set forth in § 274a.2(b), shall be subject to a civil penalty in an amount of not less than $100 and not more than $1,000 for each individual with respect to whom such violation occurred before September 29, 1999; not less than $110 and not more than $1,100 for each individual with respect to whom such violation occurred on or after September 29, 1999 and on or before November 2, 2015; and not less than $224 and not more than $2,236 for each individual with respect to whom such violation occurred after November 2, 2015. In determining the amount of the penalty, consideration shall be given to:

* * * * *

PART 280—IMPOSITION AND COLLECTION OF FINES

8. The authority citation for part 280 continues to read as follows:

Authority: 8 U.S.C. 1103, 1221, 1223, 1227, 1229, 1253, 1281, 1283, 1284, 1285, 1286, 1322, 1323, 1330; 66 Stat. 173, 195, 197, 201, 203, 212, 219, 221-223, 226, 227, 230; Pub. L. 101-410, 104 Stat. 890, as amended by Pub. L. 114-74, 129 Stat. 599.

9. In § 280.53, revise paragraphs (b)(1) through (15) to read as follows:

§ 280.53 Civil monetary penalties inflation adjustment.

* * * * *

(b) * * *

(1) Section 231(g) of the Act, Penalties for non-compliance with arrival and departure manifest requirements for passengers, crewmembers, or occupants transported on commercial vessels or aircraft arriving to or departing from the United States: From $1,333 to $1,360.

(2) Section 234 of the Act, Penalties for non-compliance with landing requirements at designated ports of entry for aircraft transporting aliens: From $3,621 to $3,695.

(3) Section 240B(d) of the Act, Penalties for failure to depart voluntarily: From $1,527 minimum/$7,635 maximum to $1,558 minimum/$7,791 maximum.

(4) Section 243(c)(1)(A) of the Act, Penalties for violations of removal orders relating to aliens transported on vessels or aircraft, under section 241(d) of the Act, or for costs associated with removal under section 241(e) of the Act: From $3,054 to $3,116;

(5) Penalties for failure to remove alien stowaways under section 241(d)(2): From $7,635 to $7,791.

(6) Section 251(d) of the Act, Penalties for failure to report an illegal landing or desertion of alien crewmen, and for each alien not reported on arrival or departure manifest or lists required in accordance with section 251 of the Act: From $362 to $369; and penalties for use of alien crewmen for longshore work in violation of section 251(d) of the Act: From $9,054 to $9,239.

(7) Section 254(a) of the Act, Penalties for failure to control, detain, or remove alien crewmen: From $906 minimum/$5,432 maximum to $924 minimum/$5,543 maximum.

(8) Section 255 of the Act, Penalties for employment on passenger vessels of aliens afflicted with certain disabilities: From $1,811 to $1,848.

(9) Section 256 of the Act, Penalties for discharge of alien crewmen: From $2,716 minimum/$5,432 maximum to $2,771 minimum/$5,543 maximum.

(10) Section 257 of the Act, Penalties for bringing into the United States alien crewmen with intent to evade immigration laws: From $18,107 maximum to $18,477 maximum.

(11) Section 271(a) of the Act, Penalties for failure to prevent the unauthorized landing of aliens: From $5,432 to $5,543.

(12) Section 272(a) of the Act, Penalties for bringing to the United States aliens subject to denial of admission on a health-related ground: From $5,432 to $5,543.

(13) Section 273(b) of the Act, Penalties for bringing to the United States aliens without required documentation: From $5,432 to $5,543.

(14) Section 274D of the Act, Penalties for failure to depart: From $763 to $779, for each day the alien is in violation.

(15) Section 275(b) of the Act, Penalties for improper entry: From $76 minimum/$382 maximum to $78 minimum/$390 maximum, for each entry or attempted entry.

Title 19—Customs Duties

PART 4—VESSELS IN FOREIGN AND DOMESTIC TRADES

10. The authority citation for part 4 continues to read in part as follows:

Authority: 5 U.S.C. 301; 19 U.S.C. 66, 1431, 1433, 1434, 1624, 2071 note; 46 U.S.C. 501, 60105.

* * * * *

Sections 4.80, 4.80a, and 4.80b also issued under 19 U.S.C. 1706a; 28 U.S.C. 2461 note; 46 U.S.C. 12112, 12117, 12118, 50501-55106, 55107, 55108, 55110, 55114, 55115, 55116, 55117, 55119, 56101, 55121, 56101, 57109; Pub. L. 108-7, Division B, Title II, § 211;

* * * * *

Section 4.92 also issued under 28 U.S.C. 2461 note; 46 U.S.C. 55111;

* * * * *

11. In § 4.80, revise paragraph (b)(2) to read as follows:

§ 4.80 Vessels entitled to engage in coastwise trade.

* * * * *

(b) * * *

(2) The penalty imposed for the unlawful transportation of passengers between coastwise points is $300 for each passenger so transported and landed on or before November 2, 2015, and $778 for each passenger so transported and landed after November 2, 2015 (46 U.S.C. 55103, as adjusted by the Federal Civil Penalties Inflation Adjustment Act Improvements Act of 2015).

* * * * *

12. In § 4.92, revise the second and third sentences to read as follows:

§ 4.92 Towing.

* * * The penalties for violation of this provision occurring on or before November 2, 2015, are a fine of from $350 to $1,100 against the owner or master of the towing vessel and a further penalty against the towing vessel of $60 per ton of the towed vessel. The penalties for violation of this provision occurring after November 2, 2015, are a fine of from $907 to $2,852 against the owner or master of the towing vessel and a further penalty against the towing vessel of $155 per ton of the towed vessel (46 U.S.C. 55111, as adjusted by the Federal Civil Penalties Inflation Adjustment Act Improvements Act of 2015).

Title 33—Navigation and Navigable Waters

PART 27—ADJUSTMENT OF CIVIL MONETARY PENALTIES FOR INFLATION

13. The authority citation for part 27 continues to read as follows:

Authority: Secs. 1-6, Pub. L. 101-410, 104 Stat. 890, as amended by Sec. 31001(s)(1), Pub. L. 104-134, 110 Stat. 1321 (28 U.S.C. 2461 note); Department of Homeland Security Delegation No. 0170.1, sec. 2 (106).

14. In § 27.3, revise the third sentence of the introductory text and table 1 to read as follows:

§ 27.3 Penalty adjustment table.

* * * The adjusted civil penalty amounts listed in Table 1 are applicable for penalty assessments issued after April 2, 2018, with respect to violations occurring after November 2, 2015. * * *

Table 1—Civil Monetary Penalty Inflation Adjustments
U.S. Code citation | Civil monetary penalty description | 2018 adjusted maximum penalty amount
14 U.S.C. 88(c) | Saving Life and Property | $10,389
14 U.S.C. 88(e) | Saving Life and Property; Intentional Interference with Broadcast | 1,066
14 U.S.C. 645(i) | Confidentiality of Medical Quality Assurance Records (first offense) | 5,218
14 U.S.C. 645(i) | Confidentiality of Medical Quality Assurance Records (subsequent offenses) | 34,791
16 U.S.C. 4711(g)(1) | Aquatic Nuisance Species in Waters of the United States | 38,954
19 U.S.C. 70 | Obstruction of Revenue Officers by Masters of Vessels | 7,779
19 U.S.C. 70 | Obstruction of Revenue Officers by Masters of Vessels—Minimum Penalty | 1,815
19 U.S.C. 1581(d) | Failure to Stop Vessel When Directed; Master, Owner, Operator or Person in Charge ¹ | 5,000
19 U.S.C. 1581(d) | Failure to Stop Vessel When Directed; Master, Owner, Operator or Person in Charge—Minimum Penalty ¹ | 1,000
33 U.S.C. 471 | Anchorage Ground/Harbor Regulations General | 11,279
33 U.S.C. 474 | Anchorage Ground/Harbor Regulations St. Mary's River | 778
33 U.S.C. 495(b) | Bridges/Failure to Comply with Regulations | 28,474
33 U.S.C. 499(c) | Bridges/Drawbridges | 28,474
33 U.S.C. 502(c) | Bridges/Failure to Alter Bridge Obstructing Navigation | 28,474
33 U.S.C. 533(b) | Bridges/Maintenance and Operation | 28,474
33 U.S.C. 1208(a) | Bridge to Bridge Communication; Master, Person in Charge or Pilot | 2,074
33 U.S.C. 1208(b) | Bridge to Bridge Communication; Vessel | 2,074
33 U.S.C. 1232(a) | PWSA Regulations | 91,901
33 U.S.C. 1236(b) | Vessel Navigation: Regattas or Marine Parades; Unlicensed Person in Charge | 9,239
33 U.S.C. 1236(c) | Vessel Navigation: Regattas or Marine Parades; Owner Onboard Vessel | 9,239
33 U.S.C. 1236(d) | Vessel Navigation: Regattas or Marine Parades; Other Persons | 4,619
33 U.S.C. 1321(b)(6)(B)(i) | Oil/Hazardous Substances: Discharges (Class I per violation) | 18,477
33 U.S.C. 1321(b)(6)(B)(i) | Oil/Hazardous Substances: Discharges (Class I total under paragraph) | 46,192
33 U.S.C. 1321(b)(6)(B)(ii) | Oil/Hazardous Substances: Discharges (Class II per day of violation) | 18,477
33 U.S.C. 1321(b)(6)(B)(ii) | Oil/Hazardous Substances: Discharges (Class II total under paragraph) | 230,958
33 U.S.C. 1321(b)(7)(A) | Oil/Hazardous Substances: Discharges (per day of violation) Judicial Assessment | 46,192
33 U.S.C. 1321(b)(7)(A) | Oil/Hazardous Substances: Discharges (per barrel of oil or unit discharged) Judicial Assessment | 1,848
33 U.S.C. 1321(b)(7)(B) | Oil/Hazardous Substances: Failure to Carry Out Removal/Comply With Order (Judicial Assessment) | 46,192
33 U.S.C. 1321(b)(7)(C) | Oil/Hazardous Substances: Failure to Comply with Regulation Issued Under 1321(j) (Judicial Assessment) | 46,192
33 U.S.C. 1321(b)(7)(D) | Oil/Hazardous Substances: Discharges, Gross Negligence (per barrel of oil or unit discharged) Judicial Assessment | 5,543
33 U.S.C. 1321(b)(7)(D) | Oil/Hazardous Substances: Discharges, Gross Negligence—Minimum Penalty (Judicial Assessment) | 184,767
33 U.S.C. 1322(j) | Marine Sanitation Devices; Operating | 7,779
33 U.S.C. 1322(j) | Marine Sanitation Devices; Sale or Manufacture | 20,742
33 U.S.C. 1608(a) | International Navigation Rules; Operator | 14,543
33 U.S.C. 1608(b) | International Navigation Rules; Vessel | 14,543
33 U.S.C. 1908(b)(1) | Pollution from Ships; General | 72,718
33 U.S.C. 1908(b)(2) | Pollution from Ships; False Statement | 14,543
33 U.S.C. 2072(a) | Inland Navigation Rules; Operator | 14,543
33 U.S.C. 2072(b) | Inland Navigation Rules; Vessel | 14,543
33 U.S.C. 2609(a) | Shore Protection; General | 51,302
33 U.S.C. 2609(b) | Shore Protection; Operating Without Permit | 20,521
33 U.S.C. 2716a(a) | Oil Pollution Liability and Compensation | 46,192
33 U.S.C. 3852(a)(1)(A) | Clean Hulls; Civil Enforcement | 42,292
33 U.S.C. 3852(a)(1)(A) | Clean Hulls; related to false statements | 56,391
33 U.S.C. 3852(c) | Clean Hulls; Recreational Vessels | 5,639
42 U.S.C. 9609(a) | Hazardous Substances, Releases, Liability, Compensation (Class I) | 55,907
42 U.S.C. 9609(b) | Hazardous Substances, Releases, Liability, Compensation (Class II) | 55,907
42 U.S.C. 9609(b) | Hazardous Substances, Releases, Liability, Compensation (Class II subsequent offense) | 167,722
42 U.S.C. 9609(c) | Hazardous Substances, Releases, Liability, Compensation (Judicial Assessment) | 55,907
42 U.S.C. 9609(c) | Hazardous Substances, Releases, Liability, Compensation (Judicial Assessment subsequent offense) | 167,722
46 U.S.C. 80509(a) | Safe Containers for International Cargo | 6,111
46 U.S.C. 70305(c) | Suspension of Passenger Service | 61,115
46 U.S.C. 2110(e) | Vessel Inspection or Examination Fees | 9,239
46 U.S.C. 2115 | Alcohol and Dangerous Drug Testing | 7,520
46 U.S.C. 2302(a) | Negligent Operations: Recreational Vessels | 6,802
46 U.S.C. 2302(a) | Negligent Operations: Other Vessels | 34,013
46 U.S.C. 2302(c)(1) | Operating a Vessel While Under the Influence of Alcohol or a Dangerous Drug | 7,520
46 U.S.C. 2306(a)(4) | Vessel Reporting Requirements: Owner, Charterer, Managing Operator, or Agent | 11,712
46 U.S.C. 2306(b)(2) | Vessel Reporting Requirements: Master | 2,343
46 U.S.C. 3102(c)(1) | Immersion Suits | 11,712
46 U.S.C. 3302(i)(5) | Inspection Permit | 2,443
46 U.S.C. 3318(a) | Vessel Inspection; General | 11,712
46 U.S.C. 3318(g) | Vessel Inspection; Nautical School Vessel | 11,712
46 U.S.C. 3318(h) | Vessel Inspection; Failure to Give Notice IAW 3304(b) | 2,343
46 U.S.C. 3318(i) | Vessel Inspection; Failure to Give Notice IAW 3309(c) | 2,343
46 U.S.C. 3318(j)(1) | Vessel Inspection; Vessel ≥1600 Gross Tons | 23,426
46 U.S.C. 3318(j)(1) | Vessel Inspection; Vessel <1600 Gross Tons | 4,685
46 U.S.C. 3318(k) | Vessel Inspection; Failure to Comply with 3311(b) | 23,426
46 U.S.C. 3318(l) | Vessel Inspection; Violation of 3318(b)-3318(f) | 11,712
46 U.S.C. 3502(e) | List/count of Passengers | 244
46 U.S.C. 3504(c) | Notification to Passengers | 24,421
46 U.S.C. 3504(c) | Notification to Passengers; Sale of Tickets | 1,220
46 U.S.C. 3506 | Copies of Laws on Passenger Vessels; Master | 489
46 U.S.C. 3718(a)(1) | Liquid Bulk/Dangerous Cargo | 61,055
46 U.S.C. 4106 | Uninspected Vessels | 10,260
46 U.S.C. 4311(b)(1) | Recreational Vessels (maximum for related series of violations) | 323,027
46 U.S.C. 4311(b)(1) | Recreational Vessels; Violation of 4307(a) | 6,460
46 U.S.C. 4311(c) | Recreational Vessels | 2,443
46 U.S.C. 4507 | Uninspected Commercial Fishing Industry Vessels | 10,260
46 U.S.C. 4703 | Abandonment of Barges | 1,739
46 U.S.C. 5116(a) | Load Lines | 11,181
46 U.S.C. 5116(b) | Load Lines; Violation of 5112(a) | 22,363
46 U.S.C. 5116(c) | Load Lines; Violation of 5112(b) | 11,181
46 U.S.C. 6103(a) | Reporting Marine Casualties | 38,954
46 U.S.C. 6103(b) | Reporting Marine Casualties; Violation of 6104 | 10,260
46 U.S.C. 8101(e) | Manning of Inspected Vessels; Failure to Report Deficiency in Vessel Complement | 1,848
46 U.S.C. 8101(f) | Manning of Inspected Vessels | 18,477
46 U.S.C. 8101(g) | Manning of Inspected Vessels; Employing or Serving in Capacity not Licensed by USCG | 18,477
46 U.S.C. 8101(h) | Manning of Inspected Vessels; Freight Vessel <100 GT, Small Passenger Vessel, or Sailing School Vessel | 2,443
46 U.S.C. 8102(a) | Watchmen on Passenger Vessels | 2,443
46 U.S.C. 8103(f) | Citizenship Requirements | 1,220
46 U.S.C. 8104(i) | Watches on Vessels; Violation of 8104(a) or (b) | 18,477
46 U.S.C. 8104(j) | Watches on Vessels; Violation of 8104(c), (d), (e), or (h) | 18,477
46 U.S.C. 8302(e) | Staff Department on Vessels | 244
46 U.S.C. 8304(d) | Officer's Competency Certificates | 244
46 U.S.C. 8502(e) | Coastwise Pilotage; Owner, Charterer, Managing Operator, Agent, Master or Individual in Charge | 18,477
46 U.S.C. 8502(f) | Coastwise Pilotage; Individual | 18,477
46 U.S.C. 8503 | Federal Pilots | 58,562
46 U.S.C. 8701(d) | Merchant Mariners Documents | 1,220
46 U.S.C. 8702(e) | Crew Requirements | 18,477
46 U.S.C. 8906 | Small Vessel Manning | 38,954
46 U.S.C. 9308(a) | Pilotage: Great Lakes; Owner, Charterer, Managing Operator, Agent, Master or Individual in Charge | 18,477
46 U.S.C. 9308(b) | Pilotage: Great Lakes; Individual | 18,477
46 U.S.C. 9308(c) | Pilotage: Great Lakes; Violation of 9303 | 18,477
46 U.S.C. 10104(b) | Failure to Report Sexual Offense | 9,819
46 U.S.C. 10314(a)(2) | Pay Advances to Seamen | 1,220
46 U.S.C. 10314(b) | Pay Advances to Seamen; Remuneration for Employment | 1,220
46 U.S.C. 10315(c) | Allotment to Seamen | 1,220
46 U.S.C. 10321 | Seamen Protection; General | 8,465
46 U.S.C. 10505(a)(2) | Coastwise Voyages: Advances | 8,465
46 U.S.C. 10505(b) | Coastwise Voyages: Advances; Remuneration for Employment | 8,465
46 U.S.C. 10508(b) | Coastwise Voyages: Seamen Protection; General | 8,465
46 U.S.C. 10711 | Effects of Deceased Seamen | 489
46 U.S.C. 10902(a)(2) | Complaints of Unfitness | 1,220
46 U.S.C. 10903(d) | Proceedings on Examination of Vessel | 244
46 U.S.C. 10907(b) | Permission to Make Complaint | 1,220
46 U.S.C. 11101(f) | Accommodations for Seamen | 1,220
46 U.S.C. 11102(b) | Medicine Chests on Vessels | 1,220
46 U.S.C. 11104(b) | Destitute Seamen | 244
46 U.S.C. 11105(c) | Wages on Discharge | 1,220
46 U.S.C. 11303(a) | Log Books; Master Failing to Maintain | 489
46 U.S.C. 11303(b) | Log Books; Master Failing to Make Entry | 489
46 U.S.C. 11303(c) | Log Books; Late Entry | 366
46 U.S.C. 11506 | Carrying of Sheath Knives | 122
46 U.S.C. 12151(a)(1) | Vessel Documentation | 15,995
46 U.S.C. 12151(a)(2) | Documentation of Vessels- Related to activities involving mobile offshore drilling units | 26,659
46 U.S.C. 12151(c) | Vessel Documentation; Fishery Endorsement | 122,231
46 U.S.C. 12309(a) | Numbering of Undocumented Vessels—Willful violation | 12,211
46 U.S.C. 12309(b) | Numbering of Undocumented Vessels | 2,443
46 U.S.C. 12507(b) | Vessel Identification System | 20,521
46 U.S.C. 14701 | Measurement of Vessels | 44,727
46 U.S.C. 14702 | Measurement; False Statements | 44,727
46 U.S.C. 31309 | Commercial Instruments and Maritime Liens | 20,521
46 U.S.C. 31330(a)(2) | Commercial Instruments and Maritime Liens; Mortgagor | 20,521
46 U.S.C. 31330(b)(2) | Commercial Instruments and Maritime Liens; Violation of 31329 | 51,302
46 U.S.C. 70119(a) | Port Security | 34,013
46 U.S.C. 70119(b) | Port Security—Continuing Violations | 61,115
46 U.S.C. 70506 | Maritime Drug Law Enforcement; Penalties | 5,639
49 U.S.C. 5123(a)(1) | Hazardous Materials: Related to Vessels—Maximum Penalty | 79,976
49 U.S.C. 5123(a)(2) | Hazardous Materials: Related to Vessels—Penalty from Fatalities, Serious Injuries/Illness or Substantial Damage to Property | 186,610
49 U.S.C. 5123(a)(3) | Hazardous Materials: Related to Vessels—Training | 481
¹ Enacted under the Tariff Act of 1930, exempt from inflation adjustments

Title 49—Transportation

PART 1503—INVESTIGATIVE AND ENFORCEMENT PROCEDURES

15. The authority citation for part 1503 continues to read as follows:

Authority: 6 U.S.C. 1142; 18 U.S.C. 6002; 28 U.S.C. 2461 (note); 49 U.S.C. 114, 20109, 31105, 40113-40114, 40119, 44901-44907, 46101-46107, 46109-46110, 46301, 46305, 46311, 46313-46314; Pub. L. 104-134, as amended by Pub. L. 114-74.

16. In § 1503.401, revise paragraphs (b)(1) and (2) and (c)(1) through (3) to read as follows:

§ 1503.401 Maximum penalty amounts.

* * * * *

(b) * * *

(1) For violations that occurred on or before November 2, 2015, $10,000 per violation, up to a total of $50,000 per civil penalty action, in the case of an individual or small business concern, as defined in section 3 of the Small Business Act (15 U.S.C. 632). For violations that occurred after November 2, 2015 $11,410 per violation, up to a total of $57,051 per civil penalty action, in the case of an individual or small business concern; and

(2) For violations that occurred on or before November 2, 2015, $10,000 per violation, up to a total of $400,000 per civil penalty action, in the case of any other person. For violations that occurred after November 2, 2015, $11,410 per violation, up to a total of $456,409 per civil penalty action, in the case of any other person.

(c) * * *

(1) For violations that occurred on or before November 2, 2015, $10,000 per violation, up to a total of $50,000 per civil penalty action, in the case of an individual or small business concern, as defined in section 3 of the Small Business Act (15 U.S.C. 632). For violations that occurred after November 2, 2015, $13,333 per violation, up to a total of $66,666 per civil penalty action, in the case of an individual (except an airman serving as an airman), or a small business concern.

(2) For violations that occurred on or before November 2, 2015, $10,000 per violation, up to a total of $400,000 per civil penalty action, in the case of any other person (except an airman serving as an airman) not operating an aircraft for the transportation of passengers or property for compensation. For violations that occurred after November 2, 2015, $13,333 per violation, up to a total of $533,324 per civil penalty action, in the case of any other person (except an airman serving as an airman) not operating an aircraft for the transportation of passengers or property for compensation.

(3) For violations that occurred on or before November 2, 2015, $25,000 per violation, up to a total of $400,000 per civil penalty action, in the case of a person operating an aircraft for the transportation of passengers or property for compensation (except an individual serving as an airman). For violations that occurred after November 2, 2015, $33,333 per violation, up to a total of $533,324 per civil penalty action, in the case of a person (except an individual serving as an airman) operating an aircraft for the transportation of passengers or property for compensation.

Dated: March 26, 2018.
Kirstjen M. Nielsen,
Secretary.

[FR Doc. 2018-06486 Filed 3-30-18; 8:45 am]

BILLING CODE 9110-9P-P, 9111-14-P; 9111-28-P, 9110-04-P, 9110-05-P